ENVIRONMENTAL PROTECTION AGENCY

[ER-FRL-6607-6]

Environmental Impact Statements and Regulations; Availability of EPA Comments

Availability of EPA comments prepared May 08, 2000 Through May 12, 2000 pursuant to the Environmental Review Process (ERP), under Section 309 of the Clean Air Act and Section 102(2)(c) of the National Environmental Policy Act as amended. Requests for copies of EPA comments can be directed to the Office of Federal Activities at (202) 574-7167. An explanation of the ratings assigned to draft environmental impact statements (EISs) was published in FR dated April 14, 2000 (65 FR 20157).

Draft EISs

ERP No. D-AFS-F65026-MN

Rating EC2, Gunflint Corridor Fuel Reduction, Implementation, Superior National Forest, Gunflint Ranger District, Cook County, MN.

Summary: EPA expressed environmental concerns regarding potential adverse impacts to air and water quality.

ERP No. D-AFS-J65313-CO

Rating EC2, White River National Forest, Revised Land and Resource Management Plan, Implementation, Eagle, Garfield, Gunnison, Mesa, Moffat and Pitkin Counties, CO.

Summary: EPA expressed environmental concerns that the impacts of unplanned, user-created travelways on the Forest were not fully evaluated and disclosed and the analysis of ski-based resorts and aerial travel corridors contained conflicting and misleading information. EPA suggests that the watershed analysis include information from the most recent watershed assessments. EPA supports the preferred alternative as best meeting the purpose and need for both the Forest and Travel Management Plans.

ERP No. D-AFS-L65346-OR

Rating LO, Triangle Land Exchange Project, Between Clearwater Land Exchange Oregon (Clearwater) an Oregon Partnership, Implementation, Malheur, Umatilla and Wallowa-Whitman National Forests, Baker, Grant, Harney and Wallowa Counties, OR.

Summary: EPA expressed lack of objections.

ERP No. D-AFS-L65351-ID

Rating EC2, East Slate Project, Harvesting Timber, Implementation, Idaho Panhandle National Forests, St. Joe Ranger District, Shoshone County, ID.

Summary: EPA expressed environmental concerns regarding impacts to water quality from roads and proposed harvest activities. EPA suggests that the EIS describe whether restoration efforts contingent on funding are incorporated into the effects analysis and that a monitoring plan to determine extent of temperature impacts to salmonid be included.

Final EISs

ERP No. F-AFS-J65295-MT

Clancy-Unionville Vegetation Manipulation and Travel Management Project, Implementation, Helena National Forest, Helena Ranger District, Lewis and Clark and Jefferson Counties, MT.

Summary: EPA did not object to the preferred alternative, but expressed environmental concerns regarding the level of aquatic and hydrologic monitoring proposed by the BLM and Forest Service. EPA suggests that quantitative emissions for PM10 from prescribed burning be disclosed for each alternative.

ERP No. F-OSM-E61047-TN

Fall Creek Falls Petition Evaluation Document, Implementation, Designate the Land as Unsuitable for Surface Coal Mining Operation, Van Buren and Bledsoe Counties, TN.

Summary: EPA supports the less damaging alternative that ensures protection of Park land viewsheds and protects three of the five watersheds that were threatened by mine expansion while permitting mining in previously degraded Piney Creek and Dry Fork.

Dated: May 23, 2000.
Joseph C. Montgomery,
Director, NEPA Compliance Division, Office of Federal Activities.

[FR Doc. 00-13304 Filed 5-25-00; 8:45 am]

BILLING CODE 6560-50-U